DEPARTMENT OF HEALTH AND HUMAN SERVICES

Office of the Secretary

[Document Identifier: HHS-OS-0990-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

Proposed Project: Million Hearts Social Network Analysis: Network Survey—OMB No. 0990-New—Office of the Assistant Secretary for Planning and Evaluation (ASPE).

Abstract: The Office of the Assistant Secretary for Planning and Evaluation (ASPE) is requesting approval on a new information collection request from the Office of Management and Budget (OMB) for purposes of conducting a study about the Million Hearts Initiative and its subsequent public-private partner network.

Million Hearts focuses on aligning the efforts of federal agencies, states, regions, health systems, communities and individuals towards this common goal, ensuring the coordination of public health, clinical care, and policy approaches to this complex problem. Previous research has shown that collaborative efforts among organizations with a variety of programming, resources and skill sets result in higher levels of community impact. Integrated efforts to address public health issues by involving multiple stakeholders are predicted to result in better health outcomes than programs that do not use a collaborative approach.

ASPE is requesting comment on the burden for this study that is examining the Million Hearts public-private partnership network. The goal of developing this activity is to examine the network to identify facilitators and barriers to effective communication and collaboration in addressing large and complex public health problems like cardiovascular disease. This project wants to take the lessons learned from this unique and massive collaboration and apply them to other efforts to improve the health and well-being of Americans.

DATES: Comments on the ICR must be received on or before June 9, 2016.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-0990-New-30D for reference.

Information Collection Request Title:

Total Estimated Annualized Burden—Hours
Form name | Number of respondents | Number of responses per respondent | Average burden per response (in hours) | Total burden hours
Million Hearts Network Survey | 100 | 1 | 30/60 | 50
Total |  |  |  | 50

Darius Taylor,
Information Collection Clearance Officer.

[FR Doc. 2016-10953 Filed 5-9-16; 8:45 am]

BILLING CODE 4150-05-P